DEPARTMENT OF LABOR

Mine Safety and Health Administration

Petitions for Modification

The following parties have filed petitions to modify the application of existing safety standards under section 101(c) of the Federal Mine Safety and Health Act of 1977.

1. Drummond Company, Inc.

[Docket No. M-2004-032-C]

Drummond Company, Inc., P.O. Box 10246, Birmingham, Alabama 35202-0246 has filed a petition to modify the application of 30 CFR 75.601 (Short circuit protection of trailing cables) to its Shoal Creek Mine (MSHA I.D. No. 01-02901) located in Jefferson County, Alabama. The petitioner requests a modification of the existing standard to permit the use of an alternative method for identifying circuit breakers and disconnecting devices. The petitioner proposes to mount the circuit breaker and corresponding receptacle on a panel in a manner that will maintain a physical relationship between the breaker and the receptacle; and to install two permanent labels on each panel that will indicate Circuit #1 and Circuit #2, etc., just above the circuit breaker and the corresponding receptacle that operates the circuit breaker. The petitioner has listed in this petition other procedures that would be followed for implementation of the proposed alternative method. The petitioner proposes to identify labeling on the trailing cable plugs that will indicate that the machine is attached to a particular cable; post signs in strategic locations on the power center that will indicate labeling requirements; provide specific training before the proposed alternative method is implemented to all miners who are designated to verify the instantaneous short circuit settings; and submit proposed revisions for its approved Part 48 training plan to the Coal Mine Safety and Health District Manager for the area in which the mine is located that will specify task training for miners designated to verify the labeling and short circuit settings. The petitioner asserts that the proposed alternative method would provide at least the same measure of protection as the existing standard.

2. Drummond Company, Inc.

[Docket No. M-2004-033-C]

Drummond Company, Inc., P.O. Box 10246, Birmingham, Alabama 35202-0246 has filed a petition to modify the application of 30 CFR 75.904 (Identification of circuit breakers) to its Shoal Creek Mine (MSHA I.D. No. 01-02901) located in Jefferson County, Alabama. The petitioner requests a modification of the existing standard to permit the use of an alternative method for identifying circuit breakers and disconnecting devices. The petition proposes to mount the circuit breaker and corresponding receptacle on a panel in a manner that will maintain a physical relationship between the breaker and the receptacle; and to install two permanent labels on each panel that will indicate Circuit #1 and Circuit #2, etc., just above the circuit breaker and the corresponding receptacle that operates the circuit breaker. The petitioner has listed in this petition other procedures that would be followed for implementation of the proposed alternative method. The petitioner proposes to identify labeling on the trailing cable plugs that will indicate that the machine is attached to a particular cable; post signs in strategic locations on the power center that will indicate labeling requirements; provide specific training before the proposed alternative method is implemented to all miners who are designated to verify the instantaneous short circuit settings; and submit proposed revisions for its approved Part 48 training plan to the Coal Mine Safety and Health District Manager for the area in which the mine is located that will specify task training for miners designated to verify the labeling and short circuit settings. The petitioner asserts that the proposed alternative method would provide at least the same measure of protection as the existing standard.

3. Warrior Coal, LLC

[Docket No. M-2004-034-C]

Warrior Coal, LLC, 57 J.E. Ellis Road, Madisonville, Kentucky 42431 has filed a petition to modify the application of 30 CFR 75.1103-4(a) (Automatic fire sensor and warning device systems; installation; minimum requirements) to its Cardinal Mine (MSHA I.D. No. 15-17216) located in Hopkins County, Kentucky. The petitioner requests a modification of the existing standard to permit the use of an alternative method of compliance for an automatic fire sensor and warning device system to identify a fire within each belt flight. The petitioner proposes to install a low-level carbon monoxide detecting system as an early warning fire detection system in all belt entries where a monitoring system identifies a sensor location in lieu of identifying each belt flight. The petitioner asserts that the proposed alternative method would provide at least the same measure of protection as the existing standard.

Request for Comments

Persons interested in these petitions are encouraged to submit comments via e-mail to comments@msha.gov, by fax at (202) 693-9441, or by regular mail to the Office of Standards, Regulations, and Variances, Mine Safety and Health Administration, 1100 Wilson Boulevard, Room 2350, Arlington, Virginia 22209. All comments must be postmarked or received in that office on or before September 1, 2004. Copies of these petitions are available for inspection at that address.

Dated at Arlington, Virginia this 20th day of July 2004.
Marvin W. Nichols, Jr.,
Director, Office of Standards, Regulations, and Variances.

[FR Doc. 04-17452 Filed 7-30-04; 8:45 am]

BILLING CODE 4510-43-P